DEPARTMENT OF THE INTERIOR

Fish and Wildlife Service

[Docket No. FWS-R1-ES-2025-0144; FXES11140100000-256-FF01E00000]

Receipt of Incidental Take Permit Application and Habitat Conservation Plan for the Taylor's Checkerspot Butterfly and Four Subspecies of the Mazama Pocket Gopher, Thurston and Pierce Counties, Washington; Categorical Exclusion

AGENCY: Fish and Wildlife Service, Interior.

ACTION: Notice of availability; request for comments.

SUMMARY: We, the U.S. Fish and Wildlife Service (Service), have received an application from the Puget Sound Energy (applicant) to renew and amend an existing incidental take permit (ITP) pursuant to the Endangered Species Act. The ITP would authorize the applicant's take of four threatened subspecies of the Mazama pocket gopher and the Taylor's checkerspot butterfly incidental to otherwise lawful activities during replacement, repair, and upgrade of existing utility systems in Thurston and portions of Pierce Counties, Washington, for the benefit of energy infrastructure and public safety. The application includes a habitat conservation plan (HCP) with measures to minimize and mitigate the impacts of the taking on the covered species. We also prepared a draft environmental action statement for our preliminary determination that the HCP and our permit decision may be eligible for categorical exclusion under the National Environmental Policy Act. We invite comments from the public and local, State, Tribal, and Federal agencies regarding the documents.

DATES: Please submit written comments by March 4, 2026.

ADDRESSES:

Obtaining documents: The documents this notice announces, as well as any comments and other materials that we receive, will be available for public inspection online at https://www.regulations.gov in Docket No. FWS-R1-ES-2025-0144.

Submitting comments: If you wish to submit comments on any of the documents, you may do so in writing by one of the following methods:

• Online: https://www.regulations.gov. Follow the instructions for submitting comments on Docket No. FWS-R1-ES-2025-0144.

• U.S. Mail: Public Comments Processing, Attn: Docket No. FWS-R1-ES-2025-0144; U.S. Fish and Wildlife Service Headquarters, MS: PRB/3W; 5275 Leesburg Pike, Falls Church, VA 22041-3803.

FOR FURTHER INFORMATION CONTACT: Marty Acker, Washington Fish and Wildlife Office, by email at Martin_Acker@fws.gov, or by telephone at 360-753-9440. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), received an incidental take permit (ITP) application from Puget Sound Energy (PSE; applicant) pursuant to section 10(a)(1)(B) of the Endangered Species Act of 1973, as amended (ESA; 16 U.S.C. 1531 et seq.). PSE has an existing ITP (Permit No. TE81283D-0) with an approved five-year HCP for the three subspecies of the Mazama pocket gopher (Thomomys mazama pugetensis, T. m. tumuli, and T. m. yelmensis), listed under the ESA in Thurston County, Washington. PSE is proposing a 30-year HCP that would renew and amend the existing 5-year HCP for future system improvements and maintenance activities, including the addition of ITP coverage for the Taylor's checkerspot butterfly (Euphydryas editha taylori) and the Roy prairie pocket gopher (T. m. glacialis), and expand the permit area to include a small portion of Pierce County, Washington. The application includes an HCP that describes actions the applicant will take to minimize and mitigate the impacts of take of the covered species. We also prepared a draft environmental action statement (EAS) for our preliminary determination that the HCP and our permit decision may be eligible for a categorical exclusion under the National Environmental Policy Act (NEPA; 42 U.S.C. 4321 et seq.). We invite the public and local, State, Tribal, and Federal agencies to comment on these documents.

Background

Section 9 of the ESA prohibits the taking of fish and wildlife species listed as endangered or threatened. Under section 3 of the ESA, the term “take” means to harass, harm, pursue, hunt, shoot, wound, kill, trap, capture, or collect, or to attempt to engage in any such conduct (16 U.S.C. 1532(19)).

Section 10(a)(1)(B) of the ESA contains provisions that authorize the Service to issue permits to non-Federal entities for the take of endangered and threatened species caused by otherwise lawful activities, provided the following criteria are met (16 U.S.C. 1539(a)(2)(B) and 50 CFR 17.22(b)(2) and 17.32(b)(2)): (1) the taking will be incidental; (2) the applicant will, to the maximum extent practicable, minimize and mitigate the impact of such taking; (3) the applicant will ensure that adequate funding for the conservation plan implementation will be provided; (4) the applicant has provided procedures to deal with unforeseen circumstances; (5) the taking will not appreciably reduce the likelihood of the survival and recovery of the species in the wild; and (6) the applicant will carry out any other measures that the Service may require as being necessary or appropriate for the purposes of the plan or to ensure the plan will be implemented. Regulations governing permits for endangered and threatened species are found at 50 CFR 17.22 and 17.32, respectively.

Proposed Action

PSE proposes to conduct maintenance, replacement, and upgrades of existing electric power and natural gas systems in portions of Thurston and Pierce Counties, Washington, for the benefit of energy infrastructure and public safety. Covered activities may include pole replacement, cable or pipe repairs, and tree pruning projects for purposes of safety and efficiency. Activities may also include conversion of overhead power lines to underground power lines in existing rights-of-way, short extensions of existing feeder lines, and new gas service to existing homes where the gas supply pipes already exist at the street. In some cases, project activity would occur in potential habitat for Taylor's checkerspot butterfly and its designated critical habitat, as well as potential habitat for the four subspecies of the Mazama pocket gopher. PSE would fully offset impacts to each of the covered species through the establishment and maintenance of permanent mitigation sites. Specifically, the applicant would permanently maintain suitable breeding, feeding, and sheltering habitat for each of the covered species.

The permit area includes Thurston County and the southwest portion of Pierce County near Joint Base Lewis-McChord that occur within the ranges of the four federally listed subspecies of Mazama pocket gopher and portions of the range of Taylor's checkerspot butterfly, as depicted in the HCP (Figure 3-1). The permit area encompasses lands where covered activities may occur, as well as 14 parcels of mitigation lands at 7 locations where mitigation would occur, totaling roughly 81 acres. The Service proposes to issue the requested 30-year ITP renewal with amendment based on the applicant's commitment to implement the HCP, if ESA section 10(a)(2)(B) permit issuance criteria are met.

Public Comments

You may submit your comments and materials by one of the methods listed in ADDRESSES. We specifically request data, comments, new information, and suggestions from interested parties regarding our proposed Federal action including, without limitation, adequacy of the HCP, whether the HCP meets requirements for permits at 50 CFR parts 13 and 17, and adequacy of the EAS pursuant to the requirements of NEPA.

Public Availability of Comments

All comments and materials we receive become part of the public record associated with this action. Before including your address, phone number, email address, or other personally identifiable information in your comments, you should be aware that your entire comment—including your personally identifiable information—may be made publicly available at any time. While you can ask us in your comment to withhold your personally identifiable information from public review, we cannot guarantee that we will be able to do so. All submissions from organizations or businesses, and from individuals identifying themselves as representatives or officials of organizations or businesses, will be made available for public disclosure in their entirety on https://www.regulations.gov.

Next Steps

After the public comment period ends (see DATES), we will evaluate the permit application, associated documents, and any comments received to determine whether the permit application meets the requirements of section 10(a)(2)(B) of the ESA. We will also conduct an intra-Service consultation under section 7(a)(2) of the ESA on the proposed ITP action. The final NEPA and permit determinations will not be completed until after the end of the 30-day comment period and will fully consider all comments received during the comment period. If we determine that all requirements are met, we will issue an ITP under section 10(A)(1)(B) of the ESA to the applicant for the take of the covered species, incidental to otherwise lawful covered activities.

Authority

We provide this notice in accordance with the requirements of section 10(c) of the Endangered Species Act (16 U.S.C. 1531 et seq.) and its implementing regulations (50 CFR 17.32), and National Environmental Policy Act (42 U.S.C. 4321 et seq.) and Department of the Interior guidance (318 DM 3).

Bridget Fahey,
Acting Regional Director, Pacific Region, U.S. Fish and Wildlife Service.

[FR Doc. 2026-02012 Filed 1-30-26; 8:45 am]

BILLING CODE 4333-15-P